DEPARTMENT OF COMMERCE

International Trade Administration

[A-580-807]

Polyethylene Terephthalate Film, Sheet, and Strip From Korea: Final Results of Antidumping Duty Administrative Review and Revocation in Part

AGENCY: Import Administration, International Trade Administration, Department of Commerce.

SUMMARY: On July 8, 2011, the Department of Commerce (the Department) published in the Federal Register the preliminary results of the administrative review of the antidumping duty order on polyethylene terephthalate film, sheet, and strip (PET film) from Korea, covering the June 1, 2009, to May 31, 2010, period of review (POR).¹

¹ See Polyethylene Terephthalate Film, Sheet, and Strip from the Republic of Korea: Preliminary Results of Antidumping Duty Administrative Review, 76 FR 40325 (July 8, 2011) (Preliminary Results).

The respondent subject to this review is Kolon Industries, Inc., (Kolon). Based on a ministerial error allegation from Kolon, we have made changes in the margin calculation, as explained below in the section entitled “Changes from Preliminary Results.” As a result, the final results differ from the preliminary results. In addition, the Department is revoking the antidumping order on PET film from Korea with respect to Kolon.

DATES: Effective Date: November 18, 2011.

FOR FURTHER INFORMATION CONTACT: Tyler Weinhold or Robert James, AD/CVD Operations, Office 7, Import Administration, International Trade Administration, U.S. Department of Commerce, 14th Street and Constitution Avenue NW., Washington, DC 20230; telephone: (202) 482-1121 or (202) 482-0649, respectively.

SUPPLEMENTARY INFORMATION:

Background

On July 8, 2011, the Department published the preliminary results of the administrative review of the antidumping duty order covering PET film from Korea for the POR of June 1, 2009, through May 31, 2010. See Preliminary Results.

On July 8, 2011, Kolon submitted a ministerial error allegation with respect to the Department's Preliminary Results.² On September 21, 2011, the Department issued a memorandum to the file addressing Kolon's ministerial error allegation. See Memorandum from Tyler Weinhold to the File, “Polyethylene Terephthalate Film, Sheet, and Strip from the Republic of Korea: Preliminary Results of Antidumping Duty Administrative Review: Allegations of Ministerial Errors,” dated September 21, 2011 (Ministerial Error Memorandum).

² See Kolon's letter regarding “Polyethylene Terephthalate Film, Sheet, and Strip from Korea: Ministerial Errors in the Preliminary Results of the 2009/10 Administrative Review,” dated July 8, 2011.

Also on September 21, 2011, the Department issued a memorandum informing interested parties of its intent to revoke the antidumping duty order with respect to Kolon on the condition that, in the final results, Kolon is found to have a de minimis or zero dumping margin and has met all the other requirements for revocation.³ The Department also reset the deadlines for parties to submit case briefs to October 6, 2011, and reset the deadlines for parties to submit rebuttal briefs to October 11, 2011. Id.

³ See Memorandum from Richard D. Weible to Ronald K. Lorentzen, “Polyethylene Terephthalate Film, Sheet, and Strip from the Republic of Korea: Preliminary Results of Antidumping Duty Administrative Review: Post-Preliminary Analysis and Calculation Memorandum and Intent to Revoke the Antidumping Order with Regard to Kolon Industries, Inc. (Kolon),” dated September 21, 2011 (Revocation Memorandum).

We allowed interested parties an opportunity to comment on the Preliminary Results. Kolon submitted a case brief on October 6, 2011, but subsequently withdrew its case brief on October 11, 2011. Petitioners ⁴ did not submit a case brief.

⁴ The petitioners in this proceeding are DuPont Teijin Films, Mitsubishi Polyester Film, Inc., SKC, Inc., and Toray Plastics (America), Inc. (collectively, petitioners).

Period of Review

The POR is June 1, 2009, through May 31, 2010.

Scope of the Order

Imports covered by this order are shipments of all gauges of raw, pretreated, or primed polyethylene terephthalate film, sheet, and strip, whether extruded or coextruded. The films excluded from this review are metalized films and other finished films that have had at least one of their surfaces modified by the application of a performance-enhancing resinous or inorganic layer more than 0.00001 inches (0.254 micrometers) thick.

PET film is currently classifiable under Harmonized Tariff Schedule of the United States (HTSUS) subheading 3920.62.00. The HTSUS subheading is provided for convenience and for customs purposes. The written description remains dispositive as to the scope of the product coverage.

Changes From Preliminary Results

We confirm that an error was made in the manner described by Kolon in its July 8, 2011, allegation. The changes made to the margin calculation programs to correct this error from the Preliminary Results are explained further in the Ministerial Error Memorandum.

Revocation of Antidumping Duty Order in Part

Based upon the reasons cited in Kolon's June 30, 2010, November 17, 2010, and July 8, 2011, submissions, and upon the absence of dumping in each of the three most recent administrative reviews, the Department concludes that Kolon has met its burden of providing proper certification to satisfy the requirements for revocation in accordance with 19 CFR 351.222. The Department's preliminary analysis of the factors related to our decision to revoke the order with regard to Kolon is described in further detail in the Revocation Memorandum. The Department hereby adopts the conclusions described in the Revocation Memorandum and determines the following: (a) Kolon has made the proper certifications as described under 19 CFR 351.222(e) and 19 CFR 351.222(b); (b) Kolon has not made sales at less than fair value for three consecutive years covered by the three most recently completed administrative review periods, in accordance with 19 CFR 351.222(b)(2)(i)(A); (c) Kolon has made sales to the United States in commercial quantities over the three consecutive years covered by the three most recently completed administrative review periods in accordance with 19 CFR 351.222(d)(1); and d) in accordance with 19 CFR 351.222(b)(2)(i)(C), that the continued application of the antidumping order with respect to Kolon is not otherwise necessary to offset dumping. Therefore, the Department is revoking the antidumping order on PET film from the Korea with respect to Kolon, effective for entries made after May 31, 2010.

The Department revoked in whole the antidumping duty order on PET film Korea, effective October 20, 2010. See Polyethylene Terephthalate Film, Sheet, and Strip from Korea: Revocation of Antidumping Duty Order, 76 FR 57715 (September 16, 2011) (Revocation Notice); see also “Termination of Suspension of Liquidation,” below, for further information. As a result of Kolon's revocation in part from the order, Kolon's entries of PET film made from June 1, 2010, through October 19, 2010, are no longer subject to the antidumping duty order on PET film from Korea. Accordingly, the Department will rescind the ongoing administrative review for Kolon for the period June 1, 2010, through May 31, 2011.⁵ See Initiation of Antidumping and Countervailing Duty Administrative Reviews, Requests for Revocations in Part and Deferral of Administrative Reviews, 76 FR 45227 (July 28, 2011).

⁵ Because Kolon is the only respondent subject to the 2010-2011 administrative review, the Department will rescind the 2010-2011 review in its entirety.

Final Results of Review

The Department has determined that the following margin exists for the period June 1, 2009, through May 31, 2010:

Manufacturer | Weighted average margin (percentage)
Kolon Industries, Inc. | 0.32
¹ (de minimis).

Assessment Rates

Pursuant to these final results, the Department has determined, and U.S. Customs and Border Protection (CBP) shall assess, antidumping duties on all appropriate entries. The Department intends to issue assessment instructions for Kolon to CBP 15 days after the date of publication of these final results. Pursuant to 19 CFR 351.212(b)(1), we calculated importer-specific (or customer-specific) ad valorem duty assessment rates based on the ratio of the total amount of the dumping margins calculated for the examined sales to the total entered value of those same sales. We will instruct CBP to assess antidumping duties on all appropriate entries covered by this review if any importer-specific (or customer-specific) assessment rate calculated in the final results of this review is above de minimis.

The Department clarified its “automatic assessment” regulation on May 6, 2003. See Antidumping and Countervailing Duty Proceedings: Assessment of Antidumping Duties, 68 FR 23954 (May 6, 2003) (Assessment of Antidumping Duties). This clarification will apply to entries of subject merchandise during the POR produced by Kolon for which Kolon did not know the merchandise was destined for the United States. In such instances, we will instruct CBP to liquidate un-reviewed entries at the 21.50 percent all-others rate from the less-than-fair-value investigation if there is no company-specific rate for an intermediary involved in the transaction. See Polyethylene Terephthalate Film, Sheet, and Strip From the Republic of Korea; Notice of Final Court Decision and Amended Final Determination of Antidumping Duty Investigation, 62 FR 50557 (September 26, 1997). See Assessment of Antidumping Duties for a full discussion of this clarification.

Termination of Suspension of Liquidation

As explained above, on September 16, 2011, the Department revoked the antidumping duty order on PET film from Korea effective October 20, 2010. See Revocation Notice. Pursuant to the revocation of the order, the Department instructed CBP, on October 3, 2011, to terminate suspension of liquidation and collection of cash deposits on entries of the subject merchandise entered, or withdrawn from warehouse, on or after October 20, 2010. Accordingly, entries of subject merchandise after October 20, 2010, are not subject to suspension of liquidation or antidumping duty deposit requirements. Therefore we are not issuing antidumping duty deposit instructions to CBP.

Notification to Importers

This notice also serves as a final reminder to importers of their responsibility under 19 CFR 351.402(0 to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i) of the Act.

Dated: November 4, 2011.
Paul Piquado,
Assistant Secretary for Import Administration.

[FR Doc. 2011-29491 Filed 11-17-11; 8:45 am]

BILLING CODE 3510-DS-M